DEPARTMENT OF ENERGY

Secretary of Energy Advisory Board

Notice of Open Meeting

AGENCY: Department of Energy.

SUMMARY: This notice announces a meeting of the Secretary of Energy Advisory Board's Panel on Emerging Technologies for the Treatment of Mixed Waste. The Federal Advisory Committee Act (Public Law 92-463, 86 Stat. 770), requires that agencies publish these notices in the Federal Register to allow for public participation.

NAME: Secretary of Energy Advisory Board—Panel on Emerging Technologies for the Treatment of Mixed Waste.

DATES: Thursday, June 22, 2000, 8:30 am-3 pm.

ADDRESSES: U.S. Department of Energy, Conference Room 1E-245, 1000 Independence Avenue, SW., Washington, DC 20585.

Note: Members of the public are requested to contact the Office of the Secretary of Energy Advisory Board at (202) 586-7092 in advance of the meeting (if possible), to expedite their entry to the Forrestal Building on the day of the meeting.

FOR FURTHER INFORMATION CONTACT: Betsy Mullins, Executive Director, Secretary of Energy Advisory Board (AB-1), U.S. Department of Energy, 1000 Independence Avenue, SW., Washington, DC 20585, (202) 586-7092 or (202) 586-6279 (fax).

SUPPLEMENTARY INFORMATION: The purpose of the Secretary of Energy Advisory Board's Panel on Emerging Technologies for the Treatment of Mixed Waste is to provide independent external advice and recommendations to the Secretary of Energy Advisory Board on emerging technologies for the treatment of mixed waste which the Department of Energy should pursue.

The Panel will focus on the evaluation of emerging non-incineration technologies for the treatment of low-level, alpha low-level and transuranic wastes containing polychlorinated biphenyls (PCBs) and other hazardous constituents. Waste categories to be addressed include inorganic homogeneous solids, organic homogeneous solids, and soils.

The Panel will also evaluate public concerns concerning the incineration of mixed wastes and whether the emerging non-incineration technologies could be implemented in a manner that would allow the Department of Energy to comply with all legal requirements, including those contained in the Settlement Agreement and Consent Order signed by the State of Idaho, Department of Energy, and the U.S. Navy in October 1995.

Tentative Agenda

The agenda for the June 22 meeting has not been finalized. However, the meeting will include a series of briefings and discussions on the treatment of mixed wastes. Members of the public wishing to comment on issues before the Panel on Emerging Technologies for the Treatment of Mixed Waste will have an opportunity to address the Panel during the afternoon period for public comment. The final agenda will be available at the meeting.

Public Participation

In keeping with procedures, members of the public are welcome to observe the business of the Panel on Emerging Technologies for the Treatment of Mixed Waste and submit written comments or comment during the scheduled public comment periods. The Chairman of the Panel is empowered to conduct the meeting in a fashion that will, in the Chairman's judgment, facilitate the orderly conduct of business. During its meeting in Washington, DC, the Panel welcomes public comment. Members of the public will be heard in the order in which they sign up at the beginning of the meeting. The Panel will make every effort to hear the views of all interested parties.

You may submit written comments to Betsy Mullins, Executive Director, Secretary of Energy Advisory Board, AB-1, U.S. Department of Energy, 1000 Independence Avenue, SW, Washington, DC 20585. This notice is being published less than 15 days before the date of the meeting due to the late resolution of programmatic issues.

Minutes

A copy of the minutes and a transcript of the meeting will be made available for public review and copying approximately 30 days following the meeting at the Freedom of Information Public Reading Room, 1E-190 Forrestal Building, 1000 Independence Avenue, SW., Washington, DC, between 9 am and 4 pm, Monday through Friday except Federal holidays. Further information on the Secretary of Energy Advisory Board and its subcommittees may be found at the Board's web site, located at http://www.hr.doe.gov/seab.

Issued at Washington, DC, on June 16, 2000.
Rachel M. Samuel,
Deputy Advisory Committee Management Officer.

[FR Doc. 00-15680 Filed 6-20-00; 8:45 am]

BILLING CODE 6450-01-P